DEPARTMENT OF COMMERCE

National Oceanic and Atmospheric Administration

[I.D. 111902B]

Mid-Atlantic Fishery Management Council (MAFMC); Meetings

AGENCY: National Marine Fisheries Service (NMFS), National Oceanic and Atmospheric Administration (NOAA), Commerce.

ACTION: Notice of public meeting.

SUMMARY: The Mid-Atlantic Fishery Management Council (MAFMC) and its Ecosystems Committee, its Executive Committee, and its Demersal Species Committee meeting as a Council Committee of the Whole with the Atlantic States Marine Fisheries Commission's (ASMFC) Summer Flounder, Scup and Black Sea Bass Board, will hold a public meeting.

DATES: The meetings will be convened Tuesday, December 10, 2002, to Thursday, December 12, 2002.

On Tuesday, December 10, 2002, the Ecosystems Committee will meet from 12:30 to 3:30 p.m. Council will meet from 3:30 to 5 p.m.

On Wednesday, December 11, 2002, the Council will meet jointly with the ASMFC's Summer Flounder, Scup, and Black Sea Bass Board from 8:30 a.m. to 5 p.m.

On Thursday, December 12, 2002, the Executive Committee will meet from 8 to 9 a.m. Council will meet from 9 a.m. until 1 p.m.

ADDRESSES: This meeting will be held at the Sanderling Inn Resort & Conference Center, 1461 Duck Road, Duck, NC, telephone 252-261-4111.

Council address: Mid-Atlantic Fishery Management Council, 300 S. New Street, Dover, DE 19904, telephone 302-674-2331.

FOR FURTHER INFORMATION CONTACT: Daniel T. Furlong, Executive Director, Mid-Atlantic Fishery Management Council; telephone: 302-674-2331, ext. 19.

SUPPLEMENTARY INFORMATION: Agenda items for the committees and Council meetings are: begin reviewing NMFS bycatch efforts and impacts to MAFMC fishery management plans, committee update on national workshop on fishing gear impacts to essential fish habitat, discuss ASMFC workshop on multispecies assessment; monkfish Stock Assessment and Fishery Evaluation Report 2001 and final action on Framework 2 to modify reference points and set trip limits/days at sea for 2003; summer flounder, scup, and black sea bass recreational management measures review and discuss Monitoring Committees' recommendations, review and discuss Advisory Panels' recommendations, and develop and approve recreational management measures for 2003; discuss and possibly identify summer flounder, scup, and black sea bass plan development priorities for 2003; review Council 2003 calendar, budget, and annual work plan; approve action to extend Illex limited access moratorium for one year, i.e., through June 30, 2004; receive and discuss organizational and committee reports including the New England Council's report regarding possible actions on herring, groundfish, monkfish, red crab, scallops, skates, and whiting.

Although non-emergency issues not contained in this agenda may come before the Council and ASMFC for discussion, in accordance with the Magnuson-Stevens Fishery Conservation and Management Act, these issues may not be the subject of formal Council action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Joanna Davis at least 5 days prior to the meeting date.

Dated: November 19, 2002.
Richard W. Surdi,
Acting Director, Office of Sustainable Fisheries, National Marine Fisheries Service.

[FR Doc. 02-29777 Filed 11-21-02; 8:45 am]

BILLING CODE 3510-22-S